DEPARTMENT OF TRANSPORTATION

Federal Aviation Administration

Associate Administrator for Commercial Space Transportation; Availability of a Final Programmatic Environmental Impact Statement (PEIS) for Licensing Launches

AGENCY: Federal Aviation Administration (FAA), Associate Administrator for Commercial Space Transportation (AST).

ACTION: Notice of availability.

SUMMARY: In accordance with requirements of the National Environmental Policy Act of 1969, as Amended, and FAA order 1050.1D—Policies and Procedures for Considering Environmental Impacts, the FAA announces the availability of a Final Programmatic Environmental Impact Statement (PEIS) for Licensing Launches.¹ The Programmatic EIS analyzes the potential environmental impacts of the proposed action of licensing launches, which is also the preferred alternative. Potential impacts of the proposed action and alternatives were analyzed in three major categories, atmospheric impacts, noise impacts and other environmental impacts. The FAA examined the range of potential impacts by considering the environmental characteristics of six different ecosystems representing various existing and potential launch locations throughout the U.S. and abroad.

¹ Please note that the term “commercial launch” as used throughout the Draft Programmatic EIS has been removed from the Final Programmatic EIS and replaced with the term “licensed launch”. This change was made for clarification purposes and not in response to public comment. The change was made because the FAA licenses some launches that are not strictly commercial in nature. This change does not alter the description of the proposed action or alternatives, nor does it alter the analyses contained in the Programmatic EIS.

The PEIS covers licensed launches from both existing government launch facilities and non-federal sites. The PEIS will update and replace the FAA's 1986 Programmatic Environmental Assessment (EA) for Commercial Expendable Launch Vehicle Programs, as announced in the Federal Register November 27, 1995 Notice of Intent. The PEIS assesses the potential environmental effects of launches from ignition, liftoff, and ascent through the atmosphere to orbit and the disposition of launch vehicle components down range. Any remaining launch processing (including vehicle assembly and payload preparation prior to liftoff, payload functioning during useful life, and payload reentry whether controlled or uncontrolled) are outside the scope of this PEIS. The scope is limited to the assessment of environmental consequences of the launch operations listed and does not include construction activities (e.g., development of new launch sites or modification of existing ones). The information in the PEIS is not intended to address all site-specific launch issues.

The Final PEIS provides responses to comments on the Draft PEIS received in written form during the public review period for the Draft PEIS. The text and figures of the Draft PEIS have been revised as necessary to provide information and analyses requested by comments from the public. The Final PEIS is a comprehensive document containing the contents of the Draft PEIS, as revised, a summary of all comment letters received during the public review period and the FAA's official responses to those comments. A copy of the Final PEIS will be mailed to all parties who received the Draft PEIS directly from the FAA and additional parties who requested a copy of the document. The Final PEIS is available for review at FAA Headquarters in Washington, DC. A copy of the Final PEIS may be obtained from the FAA through request to the contact listed below.

In accordance with regulations at 40 Code of Federal Regulations 1506.10(b)(2), the FAA's decision on whether to proceed with the proposed action will not be made or recorded until the appropriate time. At the time such decision is made, the FAA will release a Record of Decision with that information.

DATES: Comments on the Final PEIS must be received within 30 days from publication of a Notice of Availability by the Environmental Protection Agency, expected June 8, 2001 and addressed to the FAA contact listed below. All substantive comments will be considered in the FAA Record of Decision (ROD) which will conclude the environmental process for this Federal action.

FOR FURTHER INFORMATION CONTACT: Questions about the proposed action and the Final PEIS may be addressed to Ms. Michon Washington, Office of the Associate Administrator for Commercial Space Transportation, Space Systems Development Division, Suite 331/AST-100, 800 Independence Avenue SW., Washington, DC 20591; email michon.Washington@faa.gov or phone 202-267-9305. Copies of the document are available on AST's web site http://ast.faa.gov.

Dated: May 30, 2001.
Michon L. Washington,
Senior Environmental Specialist, Space Systems Development.

[FR Doc. 01-13958 Filed 6-1-01; 8:45 am]

BILLING CODE 4910-13-P